ENVIRONMENTAL PROTECTION AGENCY

40 CFR Part 121

[EPA-HQ-OW-2019-0405; FRL-9998-38-OW]

RIN 2040-AF86

Updating Regulations on Water Quality Certification

AGENCY: Environmental Protection Agency (EPA).

ACTION: Proposed rule; public meeting or (hearing).

SUMMARY: On August 8, 2019, the Environmental Protection Agency (EPA or agency) Administrator signed a notice of proposed rulemaking (NPRM) providing updates and clarifications to the substantive and procedural requirements for water quality certification under Clean Water Act. The agency is announcing that a public hearing will be held in Salt Lake City, Utah on September 5 and 6, 2019, to provide interested parties the opportunity to present data, views, or information concerning the NPRM. The pre-publication version of this proposal can be found at https://www.epa.gov/cwa-401.

DATES: The agency will hold a public hearing on Thursday, September 5 and Friday, September 6, 2019, in Salt Lake City, Utah. Please refer to the SUPPLEMENTARY INFORMATION section for additional information on the public hearing.

ADDRESSES: The hearing will be held in the Nancy Tessman Auditorium at the Salt Lake City Public Library, Main Library, 210 East 400 South, Salt Lake City, Utah 84111. The September 5 session will convene at 2:00 p.m. (local time) and will conclude no later than 8:00 p.m. and the September 6 session will convene at 9:00 a.m. and will conclude no later than 12:00 p.m.

Documents related to the proposal will be available for public inspection through the Federal eRulemaking Portal: https://www.regulations.gov, Docket ID No. EPA-HQ-OW-2019-0405 once the NPRM publishes in the Federal Register. Documents can also be viewed at the Environmental Protection Agency Docket Center, located at 1301 Constitution Avenue NW, Room 3334, Washington, DC between 8:30 a.m. and 4:30 p.m., Monday through Friday, excluding legal holidays. In addition, the pre-publication version of the NPRM and the economic analysis for the proposed rulemaking are available at https://www.epa.gov/cwa-401.

If you are unable to attend the public hearing on September 5 or 6 you will be able to submit your comments, identified by Docket ID No. EPA-HQ-OW-2019-0405, to the Federal eRulemaking Portal: https://www.regulations.gov (our preferred method). Follow the online instructions for submitting comments. All submissions received must include the Docket ID No. for this rulemaking. Comments received may be posted without change to https://www.regulations.gov/, including any personal information provided. For additional information on the public hearing, see the “Public Participation” heading of the SUPPLEMENTARY INFORMATION section of this document.

FOR FURTHER INFORMATION CONTACT: Lauren Kasparek, Office of Water (4504-T), Environmental Protection Agency, 1200 Pennsylvania Avenue NW, Washington, DC 20460; telephone number: (202) 564-3351; email address: cwa401@epa.gov.

SUPPLEMENTARY INFORMATION:

I. Background

On August 8, 2019, the agency Administrator signed a proposed rulemaking providing updates and clarifications to the substantive and procedural requirements for water quality certification under Clean Water Act section 401 and consistent with Executive Order 13868, signed on April 10, 2019, entitled “Promoting Energy Infrastructure and Economic Growth.” The agency is holding a public hearing in Salt Lake City, Utah on September 5 and 6, 2019, to provide interested parties the opportunity to present data, views, or information concerning the NPRM. The agency has submitted the proposed rulemaking to the Office of the Federal Register, and it will be published separately in the Federal Register. The comment period on the proposed action will end 60 days after the NPRM publishes in the Federal Register. The pre-publication version of the NPRM can be found at https://www.epa.gov/cwa-401 and will be replaced with the official version of the NPRM after it publishes.

II. Public Participation

A. Participation in Public Hearing

The public is invited to speak during the public hearing on September 5 and 6, 2019. The agency will begin pre-registering speakers for the hearing upon signature of this document. Those interested in speaking at the hearing can sign up for a three-minute speaking slot within an identified 45-minute timeframe. To register to speak at the hearing, please use the online registration form available at https://www.epa.gov/cwa-401/outreach-and-engagement-cwa-section-401-certification. The last day to pre-register to speak at the hearing will be August 30, 2019. On September 4, 2019, the agency will post a general agenda for the hearing that will list pre-registered speakers in approximate order at: https://www.epa.gov/cwa-401/outreach-and-engagement-cwa-section-401-certification.

The agency will make every effort to follow the schedule as closely as possible on the day of the hearing; however, please plan for the hearings to run either ahead of schedule or behind schedule. Additionally, requests to speak will be taken the day of the hearing at the hearing registration desk. The agency will make every effort to accommodate all speakers who arrive and register, although preferences on speaking times may not be available.

Each commenter will have three minutes to provide oral testimony. The agency encourages commenters to provide the agency with a copy of their oral testimony electronically (via email) or in hard copy form.

The agency may ask clarifying questions during the oral presentations but will not respond to the presentations at that time. Written statements and supporting information submitted during the comment period will be considered with the same weight as oral comments and supporting information presented at the public hearing. Written comments must be received by the last day of the comment period, as specified in the notice of proposed rulemaking. Verbatim transcripts of the hearing and written statements will be included in the docket for the rulemaking.

Please note that any updates made to any aspect of the hearing will be posted online at https://www.epa.gov/cwa-401/outreach-and-engagement-cwa-section-401-certification. While the agency expects the hearing to go forward as set forth above, please monitor our website for any updates. The agency does not intend to publish a document in the Federal Register announcing updates.

The agency will not provide audiovisual equipment for presentations. Any media presentations should be submitted to the public docket at https://www.regulations.gov/, identified by Docket ID No. EPA-HQ-OW-2019-0405. If you require the service of a sign language interpreter, translator, or other special accommodations such as audio description, please pre-register for the hearing and describe your needs by August 22, 2019. We may not be able to arrange accommodations without advanced notice.

Dated: August 7, 2019.
John T. Goodin,
Director, Office of Wetlands, Oceans and Watersheds, Office of Water, Environmental Protection Agency.

[FR Doc. 2019-17556 Filed 8-15-19; 8:45 am]

BILLING CODE 6560-50-P